DEPARTMENT OF HOMELAND SECURITY

U.S. Customs and Border Protection

Announcement of Termination of National Customs Automation Program (NCAP) Test: Semi-Monthly Statement Processing Prototype

AGENCY: U.S. Customs and Border Protection, Department of Homeland Security.

ACTION: General notice.

SUMMARY: This document announces U.S. Customs and Border Protection's decision to formally terminate the test of the semi-monthly filing and statement processing prototype program that was initiated in April 1998, as part of the National Customs Automation Program. The test of the semi-monthly filing program was conceived as a transitional procedure from the Automated Commercial System to the full electronic processing of commercial importations in the Automated Commercial Environment, which allows account holders to pay duties, taxes, fees, and other payments owed using a periodic statement cycle. The Automated Commercial Environment portal system for Periodic Monthly Payment statement processing has been deployed nationwide thereby ending the need for the semi-monthly filing program.

DATES: Effective Date: September 8, 2008.

FOR FURTHER INFORMATION CONTACT: Ms. Sharon Taylor, Program Officer, Revenue Policy and Programs Branch, ADCVD/Revenue Division, Office of International Trade, U.S. Customs and Border Protection at (202) 863-6527 or via e-mail at Sharon.Taylor@dhs.gov.

SUPPLEMENTARY INFORMATION:

Background

Title VI of the North American Free Trade Agreement Implementation Act, Public Law 103-182, 107 Stat. 2057 (December 8, 1993), contains provisions pertaining to Customs Modernization (107 Stat. 2170). Subtitle B of Title VI establishes the National Customs Automation Program (NCAP)—an automated and electronic system for the processing of commercial importations. Pursuant to the provisions of Subtitle B, U.S. Customs and Border Protection (“CBP”) developed a new commercial processing system, the Automated Commercial Environment (“ACE”), which is phasing out the Automated Commercial System (“ACS”).

As an interim measure, while the ACS was still in use for the filing of duties, taxes, fees and other payments, the former Customs Service (now CBP) published a General Notice entitled “Announcement of National Customs Automation Program Test: Semi-Monthly Statement Processing Prototype” in the Federal Register (63 FR 15259) on March 30, 1998, pursuant to section 101.9(b) of CBP regulations (19 CFR 101.9(b)), which implemented the NCAP testing procedures. The prototype permitted importers to file entry summaries and to pay their duties, taxes, and fees within seven days of the end of a fifteen or sixteen day semi-monthly period for cargo released during that period. Pursuant to section 1505 of the United States Code (19 U.S.C. 1505), the interest rate was calculated using the rate in effect seven days after the fifteen or sixteen day semi-monthly period. It provided for suspension of a participant for misconduct and an appeal process. Only six importers elected to participate in the program. The notice originally instituted the program at only 14 ports of entry. The notice stated that the semi-monthly filing and statement processing prototype would be implemented over an 18-month period and would end when the periodic payment/statement feature of ACE was available.

However, ACE was not fully implemented in 2002 and the testing of the semi-monthly processing prototype was incomplete. The reasons for these developments were many, namely, budgeting difficulties, the occurrence of other national events, which occasioned a shifting of CBP priorities, the continuing reorganization of Customs, etc. Furthermore, evaluations of the prototype conducted with participants showed a concern that the prototype testing should be expanded to additional ports so that the national effect of this program could be fully gauged. The test was not opened to any new participants, but the original six participants continued in the program. As the test program continued, a series of notices announced changes or modifications to the test program in the following notices published in the Federal Register: 67 FR 39098 (June 6, 2002); 69 FR 5362 (February 4, 2004); 69 FR 54302 (September 8, 2004); 70 FR 5199 (February 1, 2005); 70 FR 45736 (August 8, 2005); 70 FR 55623 (September 22, 2005) and 71 FR 3315 (January 20, 2006). The development of this NCAP test is set forth in these prior notices.

Termination of National Customs Automation Program Test on the Semi-Monthly Statement Processing Prototype

The periodic monthly payment statement ACE-based process, referenced above, has now exceeded over two billion dollars in revenues on the periodic deposit of estimated duties and fees. All of the six original participants in the “Semi-Monthly Statement Processing Prototype” have terminated their involvement in the program in favor of participation in the ACE-based process. The Automated Commercial Environment portal system for Periodic Monthly Payment statement processing has been deployed nationwide thereby ending the need for the semi-monthly filing program. Therefore, this notice formally announces the termination of the “Semi-Monthly Statement Processing Prototype” under the NCAP.

Dated: September 3, 2008.
Jason P. Ahern,
Acting Commissioner, U. S. Customs and Border Protection.

[FR Doc. E8-20765 Filed 9-5-08; 8:45 am]

BILLING CODE 9111-14-P